DEPARTMENT OF COMMERCE

International Trade Administration

[C-570-980]

Crystalline Silicon Photovoltaic Cells, Whether or Not Assembled Into Modules, From the People's Republic of China: Final Results of Countervailing Duty Administrative Review; 2022

AGENCY: Enforcement and Compliance, International Trade Administration, Department of Commerce.

SUMMARY: The U.S. Department of Commerce (Commerce) determines that countervailable subsidies are being provided to producers/exporters of crystalline silicon photovoltaic cells, whether or not assembled into modules (solar cells), from the People's Republic of China (China) during the period of review (POR) January 1, 2022, through December 31, 2022.

DATES: Applicable January 27, 2026.

FOR FURTHER INFORMATION CONTACT: Jose Rivera, AD/CVD Operations, Office VII, Enforcement and Compliance, International Trade Administration, U.S. Department of Commerce, 1401 Constitution Avenue NW, Washington, DC 20230; telephone: (202) 482-0842.

SUPPLEMENTARY INFORMATION:

Background

On April 21, 2025, Commerce published the Preliminary Results of this administrative review, and invited interested parties to comment.¹ On August 1, 2025, Commerce extended the deadline for these final results to no later than October 20, 2025.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ The current deadline is December 29, 2025.⁵ For a description of the events that occurred since the Preliminary Results, see the Issues and Decision Memorandum.⁶

¹ See Crystalline Silicon Photovoltaic Cells, Whether or Not Assembled Into Modules, From the People's Republic of China: Preliminary Results of Countervailing Duty Administrative Review, and Rescission in Part; 2022, 90 FR 16666 (April 21, 2025) (Preliminary Results).

² See Memorandum, “Extension of Deadline for Final Results of Countervailing Duty Administrative Review,” dated August 1, 2025.

³ See Memorandum, “Deadlines Affected by the Shutdown of the Federal Government,” dated November 14, 2025.

⁴ See Memorandum, “Tolling of all Case Deadlines,” dated November 24, 2025.

⁵ Because the new deadline falls on a holiday (i.e., December 25, 2025), the deadline becomes the next business day (i.e., December 29, 2025). See Notice of Clarification: Application of “Next Business Day” Rule for Administrative Determination Deadlines Pursuant to the Tariff Act of 1930, As Amended, 70 FR 24533 (May 10, 2005).

⁶ See Memorandum, “Issues and Decision Memorandum for the Final Results of the Administrative Review of the Countervailing Duty Order on Crystalline Silicon Photovoltaic Cells, Whether or Not Assembled into Modules, from the People's Republic of China; 2022,” dated concurrently with, and hereby adopted by, this notice (Issues and Decision Memorandum).

Scope of the Order

The products covered by the order are solar cells from China. For a full description of the scope of the Order, see the Issues and Decision Memorandum.

Analysis of Comments Received

All issues raised in the parties' briefs are addressed in the Issues and Decision Memorandum accompanying this notice. A list of the issues addressed is attached to this notice at Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this administrative review in accordance with section 751(a)(1)(A) of the Tariff Act of 1930, as amended (the Act). For each subsidy program found countervailable, Commerce finds that there is a subsidy, i.e., a government-provided financial contribution that gives rise to a benefit to the recipient, and that the subsidy is specific.⁷ For a description of the methodology underlying all of Commerce's conclusions, including any determination that relied upon the use of adverse facts available pursuant to section 776(a) and (b) of the Act, see the Issues and Decision Memorandum.

⁷ See sections 771(5)(B) and (D) of the Act regarding financial contribution; section 771(5)(E) of the Act regarding benefit; and section 771(5A) of the Act regarding specificity.

Changes Since the Preliminary Results

Based on a comment received from Changzhou Zhaojing Light Energy Co., Ltd. (Light Energy) and record information, Commerce is replacing one of the previously selected mandatory respondents, Light Energy, with its unaffiliated exporter, Yingli Energy (China) Company Limited (Yingli China). In addition, for these final results, we revised the total AFA rate and revised the subsidy rate for Yingli China to match the revised total AFA rate being applied to Yangzhou Jinghua New Energy Technology Co., Ltd. and Jiangsu Highhope International Group Corporation (High Hope). These changes are explained in the Issues and Decision Memorandum.

Rate for Non-Selected Companies Under Review

There are six companies for which a review was requested and not rescinded, which had reviewable entries, and which were not selected as mandatory respondents or found to be cross-owned with a mandatory respondent. See Appendix II. The Act and Commerce's regulations do not directly address the establishment of a rate to be applied to companies not selected for individual examination when Commerce limits its examination in an administrative review pursuant to section 777A(e)(2) of the Act. However, Commerce normally determines the rates for non-selected companies in reviews in a manner that is consistent with section 705(c)(5) of the Act, which provides instructions for calculating the all-others rate in an investigation. Section 705(c)(5)(A) of the Act states that for companies not investigated, in general, we will determine an all-others rate by weight averaging the countervailable subsidy rates established for each of the companies individually investigated, excluding zero and de minimis rates or any rates based entirely on facts available.

Accordingly, to determine the rate for companies not selected for individual examination, Commerce's practice is to weight average the net subsidy rates for the selected mandatory respondents, excluding rates that are zero, de minimis, or based entirely on facts available.⁸ In this administrative review, Commerce assigned a rate based entirely on facts available to Yingli China and High Hope. Therefore, we determine that it would not be a “reasonable method” to assign Yingli China's or High Hope's rate as the non-selected rate. For a further discussion of this issue, see the Issues and Decision Memorandum. For these final results, in the absence of any other rate not based entirely on facts available, we continue to resort to an alternative reasonable method, which is to assign the non-select rate calculated in the previous review under this proceeding.⁹ Therefore, for the other companies that remain subject to this review but were not selected as mandatory respondents, and which we are not finding to be cross-owned with the mandatory respondents, we calculated the non-selected rate using the 2021 non-selected rate of 9.07 percent.

⁸ See, e.g., Certain Pasta from Italy: Final Results of the 13th (2008) Countervailing Duty Administrative Review, 75 FR 37386, 37387 (June 29, 2010).

⁹ See, e.g., Certain Passenger Vehicle and Light Truck Tires from the People's Republic of China: Final Results of Antidumping Duty Administrative Review and Final Determination of No Shipments; 2018-2019, 89 FR 33317 (April 29, 2024), and accompanying Issues and Decision Memorandum (IDM) at Comment 1.

Final Results of Administrative Review

We determine that, for the period January 1, 2022, through December 31, 2022, the following total net countervailable subsidy rates exist:

Company | Subsidy rate (percent ad valorem)
Yingli Energy (China) Company Limited | 117.41
Jiangsu Highhope International Group Corporation ¹⁰ | 117.41
Yangzhou Jinghua New Energy Technology Co., Ltd. | 117.41
Non-Selected Companies Under Review ¹¹ | 9.07
¹⁰ This rate applies to: Jiangsu Highhope International Group Corporation and its cross-owned companies: High Hope Zhongtian Corporation and Jiangsu Suhui Asset Management Co., Ltd.
¹¹ See Appendix II of this notice for a list of all companies that remain under review but were not selected for individual examination and to which Commerce has assigned the non-selected company rate.

Disclosure

Commerce intends to disclose the calculations and analysis performed for these final results of review within five days of the date of publication of this notice in the Federal Register, in accordance with 19 CFR 351.224(b).

Assessment Rates

Pursuant to 19 CFR 351.212(b)(2), Commerce has determined, and U.S. Customs and Border Protection (CBP) shall assess, countervailing duties on all appropriate entries of subject merchandise in accordance with the final results of this review, for the above-listed companies at the applicable ad valorem assessment rates. We intend to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amounts shown for the companies listed above on shipments of subject merchandise entered, or withdrawn from warehouse, for consumption on or after the date of publication of the final results of this administrative review. For all non-reviewed firms, we will instruct CBP to continue to collect cash deposits of estimated countervailing duties at the most recent company-specific or all-others rate applicable to the company, as appropriate. These cash deposit requirements, effective upon publication of these final results, shall remain in effect until further notice.

Administrative Protective Order

This notice also serves as a final reminder to parties subject to the administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing the final results and publishing this notice in accordance with sections 751(a)(1) and 777(i)(1) of the Act, and 19 CFR 351.221(b)(5).

Dated: December 29, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Rate for Non-Selected Companies Under Review

V. Use of Facts Available and Application of Adverse Inferences

VI. Changes Since the Preliminary Results

VII. Subsidies Valuation Information

VIII. Discussion of the Issues

Comment 1: Whether Commerce Must Rescind the Review for Light Energy

Comment 2: Whether Commerce Should Revise its AFA Calculation

Comment 3: Whether Commerce Should Revise the Non-Selected Companies Rate

Comment 4: Whether Yingli China should Receive the Non-Selected Companies Under Review Rate

Comment 5: Whether Commerce Should Rescind the Administrative Review for All BYD Entities

Comment 6: Whether Commerce Should Revise its Liquidation Instructions to CBP

IX. Recommendation

Appendix II

Non-Selected Companies Under Review

1. Anji Dasol Solar Energy Science & Technology Co., Ltd.

2. BYD (Shangluo) Industrial Co., Ltd.; Shanghai BYD Co., Ltd.; BYD Company Ltd.

3. Changzhou Trina PV Ribbon Materials Co., Ltd.; Changzhou Trina Solar Energy Co., Ltd.; Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.

4. Shenzhen Sungold Solar Co., Ltd.

5. Toenergy Technology Hangzhou Co., Ltd.

6. Trina Solar Science & Technology (Thailand) Ltd.¹²

¹² In the final results of the 2021 administrative review, this company was inadvertently grouped with other Trina companies. Commerce has not made a cross-ownership determination with regards to Trina Solar Science & Technology (Thailand) Ltd. and any other company. See Crystalline Silicon Photovoltaic Cells, Whether or Not Assembled Into Modules, from the People's Republic of China: Final Results of Countervailing Duty Administrative Review; 2021, 89 FR 51497 (June 18, 2024).

[FR Doc. 2026-01603 Filed 1-26-26; 8:45 am]

BILLING CODE 3510-DS-P